DEPARTMENT OF COMMERCE

National Oceanic and Atmospheric Administration

RIN 0648-XE88

Fisheries of the Caribbean, Gulf of Mexico, and South Atlantic; Coastal Migratory Pelagic Resources of the Gulf of Mexico and South Atlantic; Snapper-Grouper Fishery, Shrimp Fishery, Sargassum, Dolphin/Wahoo, Spiny Lobster, Golden Crab; and Coral, Coral Reefs, and Live/Hard Bottom Habitat off the Southern Atlantic States; Comprehensive Amendment

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess impacts on the natural and human environment of management measures proposed in its draft Comprehensive Amendment to the Fishery Management Plans (FMPs) for the Coastal Migratory Pelagic Resources of the Gulf of Mexico and South Atlantic Region; and the Snapper-Grouper Fishery, Shrimp Fishery, Sargassum, Dolphin/Wahoo, Spiny Lobster, Golden Crab, and Coral, Coral Reefs, and Live/Hard Bottom Habitat in the South Atlantic Region to address allocations.

DATES: Written comments on the scope of the issues to be addressed in the DEIS will be accepted until February 22, 2008, at 5 p.m.

ADDRESSES: Comments may be sent by any of the following methods, mail: Kate Michie, NMFS, Southeast Regional Office, 263 13th Avenue South, St. Petersburg, FL 33701; phone: 727-824-5305; fax: 727-824-5308; e-mail: 0648-XE88@noaa.gov. Scoping documents are available from the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10;fax: 843-769-4520; e-mail: kim.iverson@safmc.net.

SUPPLEMENTARY INFORMATION: Fisheries of the South Atlantic region in the exclusive economic zone are managed under their respective FMPs. The Magnuson-Stevens Fishery Conservation and Management Act requires the Councils to establish annual catch limits (ACLs) that will limit harvest and prevent overfishing. To establish sector specific ACLs, the Council would need to allocate the total allowable catch between recreational and commercial sectors. In addition, the Council could consider a separate allocation for the for-hire sector such that there could be three sectors with allocations: commercial; for-hire (charters, headboats and guides); and private recreational.

This NOI is intended to inform the public of the preparation of a DEIS in support of a Comprehensive Amendment to the Council's FMPs to address allocations. Options suggested thus far for determining sector allocations include: use of historical landings; examination of relative catches by each sector and projection of future demand; and detailed social and economic analyses.

Following consideration of public scoping comments, the Council plans to begin preparation of the draft Comprehensive Allocation Amendment/DEIS in March 2008. The Council and its Scientific and Statistical Committee will review the draft Comprehensive Allocation Amendment/DEIS in 2008. If the Council approves the document, public review will take place in November 2008.

A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times and Locations

All meetings will begin at 2 p.m. In addition to the Comprehensive Amendment, the Council intends to scope three other amendments at this series of meetings. Separate NOIs have been prepared for each amendment. The meetings will be physically accessible to people with disabilities. Requests for information packets or for sign language interpretation or other auxiliary aids should be directed to the Council (see ADDRESSES).

Monday, February 4, 2008 - The Mutiny Hotel, 2951 South Bayshore Drive, Coconut Grove, FL 33133; phone: 305-441-2100.

Tuesday, February 5, 2008 - Radisson Resort at the Port, 8701 Astronaut Boulevard, Cape Canaveral, FL 32920; phone: 321-784-0000.

Wednesday, February 6, 2008 - Quality Inn, 125 Venure Drive, Brunswick, GA 31525; phone: 912-265-4600.

Thursday, February 7, 2008 - Sheraton New Bern, 100 Middle Street, New Bern, NC 28560; phone: 252-638-3585.

Wednesday, February 20, 2008 - Hilton Garden Inn, 5265 International Boulevard, North Charleston, SC 29418; phone: 843-308-9331.

Authority: 16 U.S.C. 1801 et seq.

Dated: January 16, 2008.
Emily H. Menashes,
Acting Director, Office of Sustainable Fisheries, National Marine Fisheries Service.

[FR Doc. E8-1046 Filed 1-18-08; 8:45 am]

BILLING CODE 3510-22-S